DEPARTMENT OF TRANSPORTATION

Federal Aviation Administration

14 CFR Part 39

[Docket No. FAA-2008-0630; Directorate Identifier 2008-SW-19-AD; Amendment 39-15554; AD 2008-12-11]

RIN 2120-AA64

Airworthiness Directives; Agusta S.p.A. Model A109E, A109S, and A119 Helicopters

AGENCY: Federal Aviation Administration (FAA), Department of Transportation (DOT).

ACTION: Final rule; request for comments.

SUMMARY: We are adopting a new airworthiness directive (AD) for Agusta S.p.A. Model A109E, A109S, and A119 helicopters. This AD results from mandatory continuing airworthiness information (MCAI) originated by an aviation authority to identify and correct an unsafe condition on an aviation product. The European Aviation Safety Agency (EASA), the technical agent for Italy, with which we have a bilateral agreement, states in the MCAI:

During a ground test of the emergency door release system, the Pilot doors failed to disengage. Investigation determined that the reason of this malfunction is interference between the lower hinge and the fuselage structure. This condition, if not corrected, creates the risk of non-disengagement of the Pilot- and/or Co-pilot doors during an emergency, inhibiting the evacuation of the aircraft, possibly resulting in injuries to the occupants.

This AD requires actions that are intended to address the unsafe condition caused by interference between the pilot or co-pilot door lower hinge and the fuselage structure.

DATES: This AD becomes effective on July 1, 2008.

The Director of the Federal Register approved the incorporation by reference of Agusta Alert Bollettino Tecnico No. 109EP-83, No. 109S-18, and No. 119-25, all dated November 29, 2007, as of July 1, 2008.

We must receive comments on this AD by August 15, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

You may get the service information identified in this AD from Agusta, 21017 Cascina Costa di Samarate (VA) Italy, Via Giovanni Agusta 520, telephone 39 (0331) 229111, fax 39 (0331) 229605-222595.

Examining the Docket: You may examine the AD docket on the Internet at http://www.regulations.gov, or in person at the Docket Operations office between 9 a.m. and 5 p.m., Monday through Friday, except Federal holidays. The AD docket contains this AD, the economic evaluation, any comments received, and other information. The street address for the Docket Operations office (telephone (800) 647-5527) is in the ADDRESSES section. Comments will be available in the AD docket shortly after receipt.

FOR FURTHER INFORMATION CONTACT: Sharon Miles, Aviation Safety Engineer, FAA, Rotorcraft Directorate, Regulations and Policy Group, Fort Worth, Texas 76193-0111, telephone (817) 222-5122, fax (817) 222-5961.

SUPPLEMENTARY INFORMATION:

Streamlined Issuance of AD

The FAA is implementing a new process for streamlining the issuance of ADs related to MCAI. This streamlined process will allow us to adopt MCAI safety requirements in a more efficient manner and will reduce safety risks to the public. This process continues to follow all FAA AD issuance processes to meet legal, economic, Administrative Procedure Act, and Federal Register requirements. We also continue to meet our technical decision-making responsibilities to identify and correct unsafe conditions on U.S.-certificated products.

This AD references the MCAI and related service information that we considered in forming the engineering basis to correct the unsafe condition. The AD contains text copied from the MCAI and for this reason might not follow our plain language principles.

Discussion

The European Aviation Safety Agency (EASA), which is the technical agent for the Member States of the European Community, has issued an MCAI in the form of EASA Airworthiness Directive No. 2007-0295R1-E, dated December 4, 2007 (referred to after this as “the MCAI”), to correct an unsafe condition for these Italian-certificated helicopters. The MCAI states:

“During a ground test of the emergency door release system, the Pilot doors failed to disengage. Investigation determined that the reason of this malfunction is interference between the lower hinge and the fuselage structure. This condition, if not corrected, creates the risk of non-disengagement of the Pilot- and/or Co-pilot doors during an emergency, inhibiting the evacuation of the aircraft, possibly resulting in injuries to the occupants.”

This AD requires actions that are intended to address the unsafe condition caused by interference between the pilot or co-pilot door lower hinge and the fuselage structure. You may obtain further information by examining the MCAI and service information in the AD docket.

Relevant Service Information

Agusta has issued Alert Bollettino Tecnico No. 109EP-83, No. 109S-18, and No. 119-25, all dated November 29, 2007. The actions described in the MCAI are intended to correct the same unsafe condition as that identified in the service information.

FAA's Determination and Requirements of This AD

This product has been approved by the aviation authority of Italy, and is approved for operation in the United States. Pursuant to our bilateral agreement with this State of Design Authority, we have been notified of the unsafe condition described in the MCAI and the service information. We are issuing this AD because we evaluated all pertinent information and determined the unsafe condition exists and is likely to exist or develop on other products of the same type design.

Differences Between This AD and the MCAI

We have reviewed the MCAI and related service information and, in general, agree with their substance. However, we have made the following changes:

• The compliance times in this AD are stated in terms of hours time-in-service rather than calendar dates, as stated in the MCAI.

• This AD is not applicable to the Model A109LUH helicopters because they are not type certificated in the United States.

In making these changes, we do not intend to differ substantively from the information provided in the MCAI and related service information. These differences are highlighted in the “Differences Between the FAA AD and the MCAI” section in the AD.

Cost of Compliance

We estimate that this AD will affect 140 helicopters of U.S. registry and that it will take about 1 work-hour to inspect both doors and 2 work-hours to re-work both doors, if necessary, per helicopter. The average labor rate is $80 per work-hour. Based on these figures, we estimate the cost of the AD on U.S. operators to be $33,600, assuming all 140 helicopters are inspected and require rework of both doors.

FAA's Determination of the Effective Date

An unsafe condition exists that requires the immediate adoption of this AD. The FAA has found that the risk to the flying public justifies waiving notice and comment prior to adoption of this rule because inspecting for interference between the pilot and co-pilot door lower hinge and the fuselage structure is required within 5 hours time-in-service, and, if there is no interference, rework is required within 100 hours time-in-service (which equates to approximately 2 months of operations), both very short compliance times, and if interference is found, corrective action is required before further flight. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2008-0630; Directorate Identifier 2008-SW-19-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-12-11 Agusta S.p.A.: Amendment 39-15554. Docket No. FAA-2008-0630; Directorate Identifier 2008-SW-19-AD.

Effective Date

(a) This airworthiness directive (AD) becomes effective on July 1, 2008.

Other Affected ADs

(b) None.

Applicability

(c) This AD applies to Model A109E, A109S, and A119 helicopters, certificated in any category.

Reason

(d) The mandatory continued airworthiness information (MCAI) states:

During a ground test of the emergency door release system, the Pilot doors failed to disengage. Investigation determined that the reason of this malfunction is interference between the lower hinge and the fuselage structure. This condition, if not corrected, creates the risk of non-disengagement of the Pilot- and/or Co-pilot doors during an emergency, inhibiting the evacuation of the aircraft, possibly resulting in injuries to the occupants.

Actions and Compliance

(e) Within the next 5 hours time-in-service (TIS), unless already done, do the following actions.

(1) Inspect the Pilot & Co-pilot Doors emergency release system in accordance with the Compliance Instructions, Part I, steps 2 through 5, of Agusta Alert Bollettino Tecnico (BT) No. 109EP-83, dated November 29, 2007, (BT 109E) for Model A109E helicopters; BT No. 109S-18, dated November 29, 2007, (BT 109S) for Model A109S helicopters; or BT No. 119-25, dated November 29, 2007, (BT119) for Model A119 helicopters, as appropriate for your model helicopter.

(i) If any interference is found between the lower hinge and the housing on the helicopter structure, before further flight, rework the housing slot of the lower hinge in accordance with the Compliance Instructions, Part II, of either BT 109E, BT 109S, or BT 119, as appropriate for your model helicopter.

(ii) If no interference is found between the lower hinge and the housing on the helicopter structure, rework the housing slot of the lower hinge within the next 100 hours TIS in accordance with the Compliance Instructions, Part II, steps 2 through 11, of either BT 109E, BT 109S, or BT 119, as appropriate for your model helicopter.

Differences Between the FAA AD and the MCAI

(f) The compliance times in this AD are stated in terms of hours TIS rather than calendar dates, as stated in the MCAI. Also, this AD is not applicable to the Model A109LUH helicopters because they are not type certificated in the United States.

Other FAA AD Provisions

(g) The following provisions also apply to this AD:

(1) Alternative Methods of Compliance (AMOCs): The Manager, Safety Management Group, Rotorcraft Directorate, FAA, has the authority to approve AMOCs for this AD, if requested using the procedures found in 14 CFR 39.19. Send information to ATTN: Sharon Miles, Aviation Safety Engineer, FAA, Rotorcraft Directorate, Regulations and Policy Group, Fort Worth, Texas 76193-0111, telephone (817) 222-5122, fax (817) 222-5961.

(2) Airworthy Product: Use only FAA-approved corrective actions. Corrective actions are considered FAA-approved if they are approved by the State of Design Authority (or their delegated agent) if the State of Design has an appropriate bilateral agreement with the United States. You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Mandatory Continuing Airworthiness Information (MCAI) European Aviation Safety Agency (EASA) Airworthiness Directive No. 2007-0295R1-E, dated December 4, 2007, contains related information.

Subject

(i) Air Transport Association of America (ATA) Code JASC 5210, Passenger/Crew Doors.

Material Incorporated by Reference

(j) You must use the specified portions of the service information specified in Table 1 of this AD to do the actions required by this AD, unless the AD specifies otherwise.

(1) The Director of the Federal Register approved the incorporation by reference of this service information under 5 U.S.C. 552(a) and 1 CFR part 51.

(2) For service information identified in this AD, contact Agusta S.p.A., 21017 Cascina Costa di Samarate (VA) Italy, Via Giovanni Agusta 520, telephone 39 (0331) 229111, fax 39 (0331) 229605-222595.

(3) You may review copies at the FAA, Office of the Regional Counsel, Southwest Region, 2601 Meacham Blvd., Room 663, Fort Worth, Texas or at the National Archives and Records Administration (NARA). For information on the availability of this material at NARA, call (202) 741-6030, or go to: http://www.archives.gov/federal-register/cfr/ibr-locations.html.

Table 1.—Material Incorporated by Reference
Agusta Alert Bollettino Tecnico | Date
No. 109EP-83, No. 109S-18, and No. 119-25 | November 29, 2007.

Issued in Fort Worth, Texas, on June 3, 2008.
Judy I. Carl,
Acting Manager, Rotorcraft Directorate, Aircraft Certification Service.

[FR Doc. E8-13381 Filed 6-13-08; 8:45 am]

BILLING CODE 4910-13-P